DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Special Study—Emerging issues related to Affordable Care Act (ACA) Implementation: The future of Ryan White Services: A Snapshot of Outpatient Ambulatory Medical Care OMB No. 0915-xxxx—NEW.

Abstract: The Health Resources and Services Administration, HIV/AIDS Bureau (HRSA/HAB) implements the Ryan White HIV/AIDS Program (RWHAP). This program provides HIV-related services in the United States for those who do not have sufficient health care coverage or financial resources for coping with HIV disease. Starting January 1, 2014, the ACA began making health care coverage available to many HIV-positive individuals who did not previously have access to such coverage. This ACA expansion of health coverage will impact a significant portion of Ryan White HIV/AIDS Program's (RWHAP) traditional clients who will be moving into third party reimbursement care. The transition will require increased support and coordination to ensure clients do not experience gaps in coverage, or gaps in care. The purpose of this evaluation study is to assess the current status of Ryan White services during the early and later stages of ACA implementation and to collect information on service provisions, quality of care, barriers, gaps, and challenges related to ACA implementation.

Need and Proposed Use of the Information: The ACA will offer new options for obtaining health care services for many individuals with HIV. Due to these changes, additional information concerning staffing, continuity and coordination of care, and utilization of RWHAP funds to provide essential services is necessary. Data from this evaluation study will be used to assess the current status of Ryan White services during the early (January 2014 to June 2014) and later (July 2014 to December 2014) stages of ACA implementation and how well the RWHAP is positioned to improve clinical outcomes, including viral suppression, retention to care, and linkage to care services.

Likely Respondents: HIV Providers and Administrators from RWHAP-funded facilities.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Early Implementation Site Visit Interview Guide | 90 | 1 | 1 | 2 | 180
Later Implementation Site Visit Interview Guide | 90 | 1 | 1 | 1 | 90
List of Site HIV Outpatient Ambulatory Medical Care Activities/Services | 30 | 1 | 1 | 30/60 | 15
Total |  |  |  |  | 285

Dated: March 6, 2014.
Jackie Painter,
Deputy Director, Division of Policy and Information Coordination.

[FR Doc. 2014-05376 Filed 3-11-14; 8:45 am]

BILLING CODE 4165-15-P